DEPARTMENT OF DEFENSE

Office of the Secretary

[Docket ID: DOD-2019-OS-0036]

Privacy Act of 1974; System of Records

AGENCY: Defense Finance and Accounting Service, DoD.

ACTION: Rescindment of a system of records notice.

SUMMARY: The Defense Finance and Accounting Service is rescinding a system of records, T7901a, The Standard Negotiable Instrument Processing System. This system of records was designed to process checks for the U.S. Army Active and Reserve military members to produce reports for processing reconciliation checks.

DATES: This action will be effective April 9, 2019. The specific date for when this system ceased to be a Privacy Act System of Records is February 22, 2017.

FOR FURTHER INFORMATION CONTACT: Mr. Gregory L. Outlaw, DFAS Privacy Officer, Defense Finance and Accounting Service, Corporate Communications Office, FOIA/PA Adherence Division, 8899 East 56th St., Indianapolis, IN 46249-3300, (317) 212-4591.

SUPPLEMENTARY INFORMATION: The Standard Negotiable Instrument Processing System (SNIPS) is no longer in use and is considered deactivated. All SNIPS customers successfully migrated to the system of records, T7320a, Deployable Disbursing System, 78 FR 14286 (March 5, 2013).

The Defense Finance and Accounting Service system of records notices subject to the Privacy Act of 1974 (5 U.S.C. 552a), as amended, have been published in the Federal Register and are available from the address in FOR FURTHER INFORMATION CONTACT or at the Defense Privacy, Civil Liberties and Transparency Division website at http://dpcld.defense.gov/privacy. The proposed systems reports, as required by the Privacy Act of 1974, as amended, were submitted on January 14, 2019, to the House Committee on Oversight and Government Reform, the Senate Committee on Homeland Security and Governmental Affairs, and on February 8, 2019, to the Office of Management and Budget (OMB) pursuant to Section 6 to OMB Circular No. A-108, “Federal Agency Responsibilities for Review, Reporting, and Publication under the Privacy Act,” revised December 23, 2016 (December 23, 2016, 81 FR 94424).

SYSTEM NAME AND NUMBER

The Standard Negotiable Instrument Processing System, T7901a.

HISTORY:

March 12, 2014, 79 FR 14010.

Dated: April 3, 2019.
Aaron T. Siegel,
Alternate OSD Federal Register Liaison Officer, Department of Defense.

[FR Doc. 2019-06941 Filed 4-8-19; 8:45 am]

BILLING CODE 5001-06-P